DEPARTMENT OF TRANSPORTATION

Office of the Secretary

14 CFR Parts 217, 241, 250, 291, and 298

[Docket No. OST 2006-26053]

RIN 2139-AA11

Submitting Airline Data Via the Internet

AGENCY: Office of the Secretary, DOT.

ACTION: Notice of proposed rulemaking (NPRM).

SUMMARY: The Department of Transportation proposes that U.S. and foreign air carriers submit their required recurrent financial, traffic, operational and consumer reports via the internet (e-filing). The proposed action would enhance security of the data, eliminate air carriers' mailing costs, eliminate the need for the Department to keypunch hardcopy data, and provide reporting air carriers with immediate notification and a receipt from the Department that the report was received.

DATES: Written comments should be submitted on or before February 20, 2007.

ADDRESSES: You may send comments, identified by Docket Number OST-2006-26053, using any of the following methods:

DOT Docket Web site: http://dms.dot.gov and follow the instructions for sending your comments electronically.

Government-wide rulemaking Web site: http://www.regulations.gov and follow the instructions for sending your comments electronically.

Mail: Docket Management Facility, U.S. Department of Transportation, 400 Seventh Street, SW., Nassif Building, Room PL-401, Washington, DC 20590-0001.

Fax: 1-202-493-2251.

Hand Delivery: Room PL-401 on the plaza level of the Nassif Building, 400 Seventh Street, SW., Washington DC, between 9 a.m. and 5 p.m. Monday through Friday, except Federal holidays.

DOT will post all comments that we receive, without change, to http//dms.dot.gov, including any personal information you provide. For more information, see the Privacy Act discussion in the SUPPLEMENTARY INFORMATION section of this document.

If you want DOT to acknowledge receipt of your comments, include with your comments a pre-addressed, stamped postcard on which the docket number appears. We will stamp the date on the postcard and mail it to you.

Docket: To read background documents or comments received, go to http://dms.gov at any time or to Room PL-401 on the plaza level of the Nassif Building, 400 Seventh Street, SW., Washington DC, between 9 a.m. and 5 p.m. Monday through Friday, except Federal holidays.

FOR FURTHER INFORMATION CONTACT: Bernie Stankus, Office of Airline Information, RTS-42, Room 4125, Research and Innovative Technology Administration, Bureau of Transportation Statistics, 400 Seventh Street, SW., Washington, DC 20590-0001, Telephone Number (202) 366-4387, Fax Number (202) 366-3383 or e-mail bernard.stankus@dot.gov.

SUPPLEMENTARY INFORMATION: DOT invites air carriers and other interested persons to participate in this rulemaking by submitting written comments or views. The most helpful comments reference a specific portion of the proposal, explain the reason for any recommended change, and include supporting data. Privacy Act: Using the search function of DOT docket Web site, anyone can find and read the comments received into any of our dockets, including the name of the individual sending the comment. You may review DOT's Privacy Act Statement that was published in the Federal Register on April 11, 2000 (65 FR 19475-19570) or you may visit http://dms.dot.gov.

Background

Receiving and processing aviation data is an essential business process for the Department of Transportation (DOT). To increase efficiency and reduce costs of the filing process to both the air carriers and the government, DOT proposes that all aviation data that is collected by the Bureau of Transportation Statistics (BTS) be transmitted via the internet (e-filing). Our proposed e-filing is designed to be user friendly. Automated, built-in data edits would alert filers of incomplete information, thus reducing filing errors and the need for corrective re-processing. E-filing is more secure than attaching files to e-mails. E-filing does not have the size limit constraints encountered by attachment to e-mail submissions. E-filing provides the submitters with immediate confirmation that the filing has been received by BTS. E-filing should eliminate the need for BTS to key punch hard copy records into its various data bases.

The DOT proposes to phase-in e-filing for the following schedules, forms and reports:

T-8—Report of All-Cargo Operations;

T-100—U.S. Air Carrier Traffic and Capacity Data by Nonstop Segment and On-Flight Market;

T-100(f)—Air Carrier Traffic Data by Nonstop Segment and on-Flight Market;

Form 41 Schedules A Certification, B-1 and B-1.1 Balance Sheet, B-7 Airframe and Aircraft Engine Acquisitions and Retirements, B-12 Statement of Changes in Financial Position, B-43 Inventory of Airframes and Aircraft Engines, P-1.1 and P-1.2 Statement of Operations, P-1(a) Interim Operations Report, P-2 Notes to BTS Form 41 Report, P-5.1 and P-5.2 Aircraft Operating Expenses, P-6 Operating Expenses by Objective Groupings, P-7 Operating Expenses by Functional Groupings—Group III Air Carriers, P-10 Employment Statistics by Labor Category, P-12(a) Fuel Consumption by Type of Service and Entity;

Form 183—Report of Extension of Credit to Political Candidates;

Form 251—Report of Passengers Denied Confirmed Space;

Form 291—A Statement of Operations for Section 41103 Operations;

Form 298-C, Schedules F-1 Report of Financial Data, and F-2 Report of Aircraft Operating;

Part 234—On-Time Flight Performance Report;

Part 234.6—Baggage Handling Statistics; and

Part 241—The Passenger-Origin Destination Survey Report.

Selected Alaskan carriers are participating in an e-filing pilot program for submitting their T-100 traffic data. After resolving several initial system problems, the pilot project has progressed smoothly and the participating carriers appear satisfied with the pilot project. The carriers are allowed to log on to our Web site and electronically submit T-100 market and/or segment data. The Web application performs an initial check on the client site, uploads the files to an isolated secure location on a Pilot Test Server, logs the receipt, and sends an acknowledgement to the submitter. Depending on the form, a submitter would attach a file or complete an on-line form to meet its reporting obligation. Because of the size of the Passenger Origin-Destination Survey Report, the T-100 U.S. Air Carrier Traffic and Capacity Data by Nonstop Segment and On-Flight Market and the Part 234 On-Time Flight Performance Report, carriers would be required to attach a comma delimited file. For BTS Schedules B-12 Statement of Changes in Financial Position and P-2 Notes to BTS Form 41 Report, which are “free form” reports, carriers would attach an MS Word document or a text file to meet their reporting burden.

The T-100 and T-100(f) would be the initial reports selected for e-filing. Carriers would receive 60-days notice via an Office of Airline Information (OAI) Accounting and Reporting Directive before implementing the requirement to submit other forms or schedules by e-filing.

The Web form would allow carriers to log on to the secure Web site and submit various data they are required to file with OAI. The Web form performs user authentication, validates filer information and basics of the data to be uploaded, uploads the files to an isolated secure location, logs the receipt, and sends an acknowledgement. The URL of the BTS E-Filing Center is http://www.efile.rita.dot.gov. The URL will automatically redirect the user to a secured portal (https).

Statutory and Executive Order Reviews

A. Executive Order No. 12866: Regulatory and Planning Review

Under Executive Order No 12866, (58 FR 51735, October 4, 1993) the Agency must determine whether the regulatory action is “significant” and therefore subject to OMB review and the requirements of the Executive Order. The Order defines “significant regulatory action” as one that is likely to result in a rule that may (1) Have an annual effect on the economy of $100 million or more or adversely affect in a material way the economy, a sector of the economy, productivity, competition, jobs, the environment, public health or safety, or State, local, or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

It has been determined that this proposed action is not a “significant regulatory action” under Executive Order No 12866. Therefore, it has not been reviewed by the Office of Management and Budget under that order. It is not significant under the regulatory policies and procedures of the Department of Transportation (DOT) (44 FR 11040, February 26, 1979). Because this rule merely proposes a change in the reporting process and not the underlying reporting requirements it would have minimal economic impacts. The proposal would only involve minimal transitional costs and would not place any additional reporting burden on air carriers. We estimate that this proposal may lessen the long-term compliance costs for air carriers by reducing their mailing costs. In addition, the proposed action would enhance data security and save government costs by eliminating the need for the BTS to keypunch hardcopy data submissions. Finally, the proposal would provide air carriers immediate submission notification and a receipt that the BTS has received the data.

B. Paperwork Reduction Act

BTS tentatively finds that this proposed action would not change the current reporting burden on air carriers for the purposes of the Paperwork Reduction Act. BTS requests comments on any aspects of this proposal, including: (1) An estimate on any cost savings; (2) ways to enhance the quality, usefulness, and clarity of the collected information; and (3) ways to minimize the collection burden without reducing the quality of the information collected, including additional use of automated collection techniques or other forms of information technology. To submit comments to BTS on theses issues, please follow the instructions that appear in the ADDRESSES section of this document. You may also send comments to the Office of Information and Regulatory Affairs, Office of Management and Budget, 725-17th Street, NW., Washington, DC 20503, Attention RITA Desk Officer. If after evaluating the public comments, the agency believes that the agency action will result in reduction of the reporting burden hours for the reporting air carriers, the agency will notify OMB of the change in burden hours for the applicable information collection activities (OMB Control Numbers—2139-0001, 2138-0009, 2138-0013, 2138-0018, 2138-0040 and 2138-0041) and make the appropriate adjustment(s) in the agency's paperwork inventory.

C. Regulatory Flexibility Act

The Regulatory Flexibility Act generally requires an agency to prepare a regulatory flexibility analysis of any rule subject to notice-and-comment rulemaking requirements under the Administrative Procedure Act or any other statute unless the agency certifies that the rule will not have a significant economic impact on a substantial number of small entities.

This proposal will not, if adopted, have a significant economic impact on a substantial number of small entities.

D. Executive Order 12612

This rule has been analyzed in accordance to the principles and criteria in Executive Order 12612 (“Federalism”) and DOT has determined the proposed rule does not have sufficient federalism implications to warrant the preparation of a Federalism Assessment.

E. Regulation Identifier Number

A regulation identifier number (RIN) is assigned to each regulatory action listed in the Unified Agenda of Federal Regulations. The Regulatory Information Service Center publishes the Unified Agenda each April and October. The RIN Number 2139-AA11 contained in the heading of this document can be used to cross reference this action with the Unified Agenda.

List of Subjects in 14 CFR Parts 217, 241, 250, 291, and 298

Administrative practice and procedures, Air carriers, Air taxis, Consumer protection, Freight, Reporting and recordkeeping requirements, and Uniform system of accounts.

Accordingly, the Department of Transportation proposes to amend 14 CFR Chapter II as follows:

PART 217—[AMENDED]

1. The authority of part 217 continues to read as follows:

Authority: 49 U.S.C. 329 and chapters 401, 413, 417.

2. Section 217.3(e) is proposed to be revised as follows:

§ 217.3 Reporting requirements.

* * * * *

(e) Schedule T-100(f) shall be filed with the Bureau of Transportation Statistics using an e-filing portal. The URL of the BTS E-Filing Center is http://www.efile.rita.dot.gov. The URL will automatically redirect the user to a secured portal (https).

PART 241—[AMENDED]

3. The authority of part 241 continues to read as follows

Authority: 49 U.S.C. 329 and chapters 401, 411, 417.

4. Section 19-1 (c) is proposed to be revised as follows:

§ 19-1 Applicability.

* * * * *

(c) Each U.S. carrier shall submit using an e-filing portal its Form 41 Schedule T-100 U.S. Air Carrier Traffic and Capacity data by Nonstop Segment and On-flight Market. The URL of the BTS E-Filing Center is http://www.efile.rita.dot.gov. The URL will automatically redirect the user to a secured portal (https).

* * * * *

5. Section 19-7(b) is proposed to be revised as follows:

§ 19-7 Passenger origin-destination survey.

* * * * *

(b) Reports required by this section shall be submitted to the Bureau of Transportation Statistics using an e-filing portal. The URL of BTS E-Filing Center is http://www.efile.rita.dot.gov. The URL will automatically redirect the user to a secured port (https).

* * * * *

PART 250—[AMENDED]

6. The authority of part 250 continues to read as follows:

Authority: 49 U.S.C. 329 and chapters 401, 411, 413, 417.

7. We propose to designate the existing text as paragraph (a) and add a paragraph (b) to § 250.10 as follows:

§ 250.10 Report of passengers denied confirmed space.

* * * * *

(b) Reports required by this section shall be submitted to the Bureau of Transportation Statistics using an e-filing portal. The URL of the BTS E-Filing Center is http://www.efile.rita.dot.gov. The URL will automatically redirect the user to a secured port (https).

PART 291—[AMENDED]

8. The authority of part 291 continues to read as follows:

Authority: 49 U.S.C. 329 and chapters 411 and 417.

9. Section 291.42(a)(2) is proposed to be revised as follows:

§ 291.42 Section 41103 financial and traffic reporting.

(a) * * *

(2) Reports required by this section shall be submitted to the Bureau of Transportation Statistics using an e-filing portal. The URL of the BTS E-Filing Center is http://www.efile.rita.dot.gov. The URL will automatically redirect the user to a secured port (https).

* * * * *

PART 298—[AMENDED]

10. The authority of part 298 continues to read as follows:

Authority: 49 U.S.C. 329 and chapters 401, 411, 417.

11. We propose to revise § 298.60(c) and remove paragraphs (d) and (e):

§ 298.60 General reporting instructions.

* * * * *

(c) Reports required by this section shall be submitted to the Bureau of Transportation Statistics using an e-filing portal. The URL of the BTS E-Filing Center is http://www.efile.rita.dot.gov. The URL will automatically redirect the user to a secured port (https). The URL of BTS E-Filing Center is http://www.efile.rita.dot.gov.

Issued in Washington, DC, on December 13, 2006.
Donald Bright,
Assistant Director, Airline Information, Bureau of Transportation Statistics.

[FR Doc. E6-21599 Filed 12-19-06; 8:45 am]

BILLING CODE 4910-HY-P